DEPARTMENT OF THE INTERIOR

Bureau of Ocean Energy Management

[Docket No. BOEM-2023-0007]

Gulf of Mexico OCS Oil and Gas Lease Sales 259 and 261: Final Supplemental Environmental Impact Statement

AGENCY: Bureau of Ocean Energy Management (BOEM), Interior.

ACTION: Notice of availability of a final environmental impact statement.

SUMMARY: BOEM announces the availability of a final supplemental environmental impact statement, Gulf of Mexico OCS Oil and Gas Lease Sales 259 and 261: Final Supplemental Environmental Impact Statement (GOM Lease Sales 259 and 261 SEIS). The GOM Lease Sales 259 and 261 SEIS provides an analysis of potential environmental impacts of the proposed action and four alternatives and identifies BOEM's preferred alternative.

DATES: BOEM will issue a final record of decision no sooner than February 13, 2023.

ADDRESSES: The GOM Lease Sales 259 and 261 SEIS with appendices is available for review on BOEM's website at https://www.boem.gov/GoM-Sales-259-and-261-SEIS.

FOR FURTHER INFORMATION CONTACT: Helen Rucker, Chief, Environmental Assessment Section, Office of Environment, 1201 Elmwood Park Blvd. (MS GM 623E), New Orleans, LA 70123-2394, or by telephone at 504-736-2421.

SUPPLEMENTARY INFORMATION: The GOM Lease Sales 259 and 261 SEIS will inform both lease sales, which the Inflation Reduction Act of 2022 (IRA) (Pub. L. 117-169, enacted August 16, 2022) directs BOEM to hold by the end of March 2023 and September 2023, respectively. While section 50264(a)(3)-(4) of the IRA requires BOEM to hold these lease sales, the IRA does not impact the bulk of BOEM's normal leasing process, including the resolution of particular questions going to the scope of the sales and the terms of the resulting leases. BOEM has prepared the GOM Lease Sales 259 and 261 SEIS to inform its leasing decisions.

On October 7, 2022, the notice of availability for the draft SEIS was published in the Federal Register (87 FR 61014), beginning a 45-day public comment period that ended November 21, 2022. During that time, BOEM also held two public hearings. BOEM received a total of 75,918 public comments through the Federal e-Rulemaking Portal (http://www.regulations.gov, Docket No. BOEM-2022-0144) and 14 comments during the public hearings. Following the close of the public comment period, BOEM considered all comments received in preparing the Lease Sales 259 and 261 SEIS as appropriate. Detailed responses to the comments are provided in appendix C of the GOM Lease Sales 259 and 261 SEIS. The GOM Lease Sales 259 and 261 SEIS analyzes the potential environmental impacts that could result from an individual Gulf of Mexico oil and gas lease sale. Additionally, it identifies BOEM's preferred alternative as Alternative D combined with Alternative A. Alternative D combined with Alternative A would offer for lease available unleased blocks within all three of BOEM's Gulf of Mexico (GOM) planning areas in the lease sale area that are not under Presidential withdrawal, not adjacent to or beyond the United States Exclusive Economic Zone in the area known as the northern portion of the Eastern Gap, and not within the boundary of the Flower Garden Banks National Marine Sanctuary as of the July 2008 “Memorandum on Modification of the Withdrawal of Areas of the United States Outer Continental Shelf From Leasing Disposition.” BOEM may also exclude from leasing any available unleased whole or partial blocks subject to one or more of the following stipulations: (1) Topographic Features Stipulation; (2) Live Bottom Stipulation; and (3) Blocks South of Baldwin County, Alabama, Stipulation. BOEM will announce more information concerning GOM Lease Sales 259 and 261 in its final notice of sale and record of decision for each sale.

Authority: The National Environmental Policy Act of 1969, as amended (42 U.S.C. 4321 et seq.) and 43 CFR 46.415.

Amanda Lefton,
Director, Bureau of Ocean Energy Management.

[FR Doc. 2023-00485 Filed 1-12-23; 8:45 am]

BILLING CODE 4340-98-P